NUCLEAR REGULATORY COMMISSION

[Docket No. 70-1257; NRC-2009-0147]

Notice of Availability of Environmental Assessment and Finding of No Significant Impact for License Amendment for AREVA NP, Inc., Richland, WA

AGENCY: Nuclear Regulatory Commission.

ACTION: Notice of availability.

FOR FURTHER INFORMATION CONTACT: Gloria Kulesa, Senior Environmental Project Manager, Environmental Review Branch, Division of Waste Management and Environmental Protection, Office of Federal and State Materials and Environmental Management Programs, U.S. Nuclear Regulatory Commission, Rockville, Maryland 20852. Telephone: (301) 415-5308; fax number: (301) 415-5369; e-mail: Gloria.Kulesa@nrc.gov.

SUPPLEMENTARY INFORMATION:

I. Introduction

The Nuclear Regulatory Commission (NRC) is considering the renewal of Special Nuclear Material License SNM-1227 for the continued operation of the AREVA NP, Inc. Fuel Fabrication Facility located in Richland, Washington. This renewal authorizes the licensee to receive and possess nuclear materials at the Richland facility to fabricate and assemble nuclear fuel components under the provisions of 10 CFR part 70, Domestic Licensing of Special Nuclear Material. If NRC approves the renewal of the license, the term would cover 40 years. NRC has prepared an Environmental Assessment (EA) in support of this action in accordance with the requirements of 10 CFR part 51. Based on the EA, the NRC has concluded that a Finding of No Significant Impact (FONSI) is appropriate. If approved, NRC will issue the renewed license following the publication of this notice.

II. EA Summary

The licensee requests approval to renew SNM-1227 for an additional 40 years at the Richland, Washington facility. Specifically, this would allow AREVA NP to continue manufacturing and assembling nuclear fuel components for use in commercial light-water-cooled nuclear reactors. On October 24, 2006, AREVA NP requested that NRC approve the proposed amendment. AREVA NP's request for the proposed change was previously noticed in the Federal Register on March 15, 2007 (72 FR 12202), with a Notice of an Opportunity to Request a Hearing.

The staff has prepared the EA in support of the proposed license renewal. Staff considered 12 environmental impacts in their evaluation, including: Land use; transportation; socioeconomics; air quality; water quality; geology and soils; ecology; noise; historic and cultural; scenic and visual; public and occupational health; and waste management. All of the environmental impacts were small, with the exception of transportation. NRC staff considered the transportation long-term and cumulative impacts as small-to-moderate based on projected population growth estimates and anticipated development of residential communities and commercial lands. The regional government and industry collaboratively plan the area's future transportation system to minimize traffic impacts. NRC considers that the proactive planning efforts will keep the impact small. A brief summary of the other environmental resources follows. The license renewal request does not require altering the site footprint nor does it change the operating processes of the existing facility, therefore there are no anticipated impacts in land use, noise, historic and cultural, scenic and visual, and site ecology resources. The proposed action will not adversely affect federal or state-listed threatened or endangered species nor flora and fauna in the site vicinity. AREVA NP is a major business that contributes a positive benefit towards the region's socioeconomics. Airborne and liquid effluent monitoring indicates readings below regulatory 10 CFR part 20 limits for non-radiological and radiological contaminants. Public and occupational exposures are below the limit established in 10 CFR part 20. AREVA NP maintains acceptable waste management practices and procedures. The staff concluded that the proposed 40 year renewal of license SNM-1227 will not result in a significant impact to the environment.

NRC staff consulted with other agencies regarding the proposed action, including the U.S. Fish and Wildlife Service (USFWS), the Washington Department of Ecology, Washington Department of Archaeology and Historic Preservation [i.e. the State Historic Preservation Office], the Confederated Tribes and Bands of the Yakama Nation [i.e., one of the two local Tribal Historic Preservation Offices], and the Confederated Tribes of the Umatilla Indian Reservation. The consultations ensured that the requirements of Section 7 of the Endangered Species Act and Section 106 of the National Historic Preservation Act were met and provided the designated state liaison agency the opportunity to comment on the proposed action.

III. Finding of No Significant Impact

On the basis of the EA, NRC has concluded that there are no significant environmental impacts from the proposed amendment and has determined not to prepare an Environmental Impact Statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS Accession No.
License Renewal—Letter | ML063110083
—Application | ML063110089
—Environmental Report | ML063110087
NRC Letters to Confederate Tribes & Bands of Yakama Nation | ML073370055
| ML082470386
| ML090440136
NRC Letters to Confederated Tribes of the Umatilla Indian Reservation | ML080250134
| ML082610765
| ML090440128
NRC Letter to Washington State SHPO | ML073100238
| ML082470310
| ML090430370
NRC Letter to U.S. Fish and Wildlife Service | ML073100164
| ML082470214
Request for Additional Information (RAI) and Responses | ML080600457/ML080640145
| ML081300403
| ML082330600
Tribal letters to NRC | ML080790549
| ML081620577
State Historic Preservation Office, letter to NRC | ML080560066
| ML082880314
Washington Department of Ecology letter to NRC | ML083040124
USFWS correspondence with NRC | ML090720616
| ML090720623
| ML090720581
Environmental Assessment | ML090700258

If you do not have access to ADAMS or if there are problems in accessing the documents located in ADAMS, contact the NRC Public Document Room (PDR) Reference staff at 1-800-397-4209, 301-415-4737 or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 27th day of March 2009.
For the Nuclear Regulatory Commission.
Andrea Kock,
Chief, Environmental Review Branch, Environmental Protection and Performance Assessment Directorate, Division of Waste Management and Environmental Protection, Office of Federal and State Materials and Environmental Management Programs.

[FR Doc. E9-7492 Filed 4-2-09; 8:45 am]

BILLING CODE 7590-01-P